DEPARTMENT OF ENERGY

Federal Energy Regulatory Commission

Combined Notice of Filings

Take notice that the Commission has received the following Natural Gas Pipeline Rate and Refund Report filings:

Docket Numbers: RP20-372-000.

Applicants: Algonquin Gas Transmission, LLC.

Description: § 4(d) Rate Filing: Negotiated Rates—Boston Gas 510798 releases eff 1-1-20 to be effective 1/1/2020.

Filed Date: 12/30/19.

Accession Number: 20191230-5005.

Comments Due: 5 p.m. ET 1/13/20.

Docket Numbers: RP20-373-000.

Applicants: Algonquin Gas Transmission, LLC.

Description: § 4(d) Rate Filing: Negotiated Rates—Boston Gas 510807 releases eff 1-1-20 to be effective 1/1/2020.

Filed Date: 12/30/19.

Accession Number: 20191230-5006.

Comments Due: 5 p.m. ET 1/13/20.

Docket Numbers: RP20-374-000.

Applicants: Algonquin Gas Transmission, LLC.

Description: § 4(d) Rate Filing: Negotiated Rates—Boston Gas 511109 releases eff 1-1-20 to be effective 1/1/2020.

Filed Date: 12/30/19.

Accession Number: 20191230-5007.

Comments Due: 5 p.m. ET 1/13/20.

Docket Numbers: RP20-375-000.

Applicants: Southern LNG Company, L.L.C.

Description: § 4(d) Rate Filing: Housekeeping Filing 2019 to be effective 2/1/2020.

Filed Date: 12/30/19.

Accession Number: 20191230-5012.

Comments Due: 5 p.m. ET 1/13/20.

Docket Numbers: RP20-376-000.

Applicants: Columbia Gas Transmission, LLC.

Description: § 4(d) Rate Filing: TCO Storage Ratchet Modification to be effective 2/1/2020.

Filed Date: 12/30/19.

Accession Number: 20191230-5065.

Comments Due: 5 p.m. ET 1/13/20.

Docket Numbers: RP20-377-000.

Applicants: LA Storage, LLC.

Description: § 4(d) Rate Filing: Filing of Negotiated Rate, Conforming IW Agreements (Amendments) to be effective 1/1/2020.

Filed Date: 12/30/19.

Accession Number: 20191230-5102.

Comments Due: 5 p.m. ET 1/13/20.

Docket Numbers: RP20-378-000.

Applicants: Transcontinental Gas Pipe Line Company, LLC.

Description: § 4(d) Rate Filing: Negotiated Rates—Cherokee AGL—Replacement Shippers—Jan 2020 to be effective 1/1/2020.

Filed Date: 12/30/19.

Accession Number: 20191230-5139.

Comments Due: 5 p.m. ET 1/13/20.

Docket Numbers: RP20-379-000.

Applicants: Southern Star Central Gas Pipeline, Inc.

Description: § 4(d) Rate Filing: Vol 2 Neg and Conforming Rate Agreements-Scout and Conexus FTS-P to be effective 1/1/2020.

Filed Date: 12/30/19.

Accession Number: 20191230-5175.

Comments Due: 5 p.m. ET 1/13/20.

The filings are accessible in the Commission's eLibrary system by clicking on the links or querying the docket number.

Any person desiring to intervene or protest in any of the above proceedings must file in accordance with Rules 211 and 214 of the Commission's Regulations (18 CFR 85.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2019.
Nathaniel J. Davis, Sr.,
Deputy Secretary.

[FR Doc. 2020-00016 Filed 1-6-20; 8:45 am]

BILLING CODE 6717-01-P